DEPARTMENT OF AGRICULTURE

Forest Service

Privacy Act of 1974; System of Records

AGENCY: Forest Service, U.S. Department of Agriculture.

ACTION: Notice of a modified system of records.

SUMMARY: In accordance with the Privacy Act of 1974, and Office of Management and Budget (OMB) Circular No. A-108, the U.S. Department of Agriculture (USDA or Department) proposes to modify the current system of records entitled “Department of Agriculture, Forest Service, FS-33—Law Enforcement and Investigative Records” (LEIRS). This system allows Law Enforcement and Investigations to record claims and criminal activities in the National Forests which include verified violations of criminal statutes and/or Agency policy, as well as situations that may result in civil claims for or against the government. This information helps the Agency meet its objective of contributing to Officers, Forest Service employees, and National Forest visitor safety.

DATES: This notice is applicable upon publication, subject to a 30-day period in which to comment on the routine uses described below. Comments must be submitted by August 5, 2021.

ADDRESSES: You may submit comments, identified by docket number FS-2021-0002 by one of the following methods:

• Federal e-Rulemaking Portal: https://www.regulations.gov. Follow the instructions for submitting comments.

• Email: Curtis Davis, curtis.davis@usda.gov.

• Mail: Director, Law Enforcement and Investigations (Mail Stop 1140), USDA Forest Service, P.O. Box 96090, Washington, DC 20250.

Instructions: All submissions must include the Agency name and docket number for this rulemaking. All comments received will be posted without change to https://www.regulations.gov, including any personal information provided.

Docket: For access to the docket, to read background document, or comments received, go to https://www.regulations.gov.

FOR FURTHER INFORMATION CONTACT: For general questions please contact: U.S. Department of Agriculture, Forest Service, Law Enforcement and Investigations Staff, Curtis Davis, (703) 605-4730, or Fax (703) 605-5114, or email curtis.davis@usda.gov, 1400 Independence Avenue SW, (Mail Stop 1140), Washington, DC 20250. For privacy questions, please contact: Sullie Coleman, Chief Privacy Officer, Office of the Chief Information Officer, Department of Agriculture, Washington, DC 20250 or at sullie.coleman@usda.gov or by phone at (202) 604-0467.

SUPPLEMENTARY INFORMATION: The purpose of changes to this system of records are:

1. To provide the procedures that allow individuals to gain access to their information maintained in its System of Records Notice (SORN) as outlined in section 6 (Notice) and section 7 (Access, Redress, and Correction) of the LEIRS, formally known as LEIMARS, Privacy Impact Assessment (PIA).

2. To reflect changes in practice and policy that affect the personally identifiable information (PII) maintained in its system of records. The LEIRS, formally known as LEIMARS, database system is not accessible to the public. The information is shared on a need-to-know basis with Law Enforcement partners and the Federal, State, and local court systems. Information such as statistical crime analysis, including but not limited to the number of incidents and cases but excluding PII, is shared within Congress and other agencies on a need-to-know basis.

The intended effect of these changes is to show individuals their PII information is secured in LEIRS, formally known as LEIMARS.

The Forest Service proposes to modify a system of records, entitled “USDA/FS-33 Law Enforcement and Investigative Records” that will be used to maintain records of activities conducted by the Agency pursuant to its mission and responsibilities.

The Forest Service Law Enforcement Investigations Reporting System (LEIRS), formally known as Law Enforcement Investigations Management Attainment Reporting System (LEIMARS) is primarily a criminal database and is used to collect information concerning criminal incidents that includes the PII related to suspects, witnesses, and victims in addition to information pertaining to the investigation of criminal activity. The LEIRS, formally known as LEIMARS, system collects the following information (that may be considered PII): First name, last name, middle initial, date of birth, home or mailing address, work address, driver's license, fishing license, hunting license, military issued ID, school issued ID, social security ID, state issued ID, height, weight, race, sex, hair color, eye color, adult/juvenile, and occupation. LEIRS, formally known as LEIMARS, is also used to document incidents that may be non-criminal in nature, primarily pertaining to civil cases which may result in a claim for or against the government.

Consistent with USDA's information sharing mission, information stored in LEIRS, formally known as LEIMARS, may be shared with other USDA components, as well as appropriate Federal, State, local, tribal, foreign, or international government agencies. This sharing will only take place after USDA determines that the receiving component or agency has a need to know the information to carry out national security, law enforcement, immigration, intelligence, or other functions consistent with the routine uses set forth in this system of records notice.

The Privacy Act embodies fair information principles in a statutory framework governing the means by which the United States Government collects, maintains, uses, and disseminates personally identifiable information. The Privacy Act applies to information that is maintained in a “system of records.” A “system of records” is a group of any records under the control of an agency for which information is retrieved by the name of an individual or by some identifying number, symbol, or other identifying particular assigned to the individual. In the Privacy Act, an individual is defined to encompass United States citizens and legal permanent residents.

The Privacy Act of 1974, as amended (5 U.S.C. 552a), requires agencies to publish in the Federal Register notice of new or revised systems of records maintained by the Agency. A system of records is a group of any records under the control of any agency from which information is retrieved by the name of an individual or by some identifying number, symbol, or other identifying particular assigned to an individual. In accordance with 5 U.S.C. 552a(r), USDA has provided a report of this system change to the Office of Management and Budget and to Congress.

TITLE OF BUSINESS ADDRESS OF THE AGENCY OFFICIAL RESPONSIBLE FOR THE SYSTEM OF RECORD:

Chief information Officer, U.S. Department of Agriculture, Forest Service, 1400 Independence Avenue SW, Washington, DC 20250.

SYSTEM NAME AND NUMBER:

Law Enforcement Investigations Reporting System, formally known as Law Enforcement Management Attainment Reporting System (LEIMARS), USDA/FS-33 Law Enforcement and Investigative Records.

SECURITY CLASSIFICATION:

Unclassified.

SYSTEM LOCATION:

LEIMARS is a centralized database and is hosted on the Forest Service Application Cloud Environment (ACE) which is physically located at the National Information Technology Center (NITC), 8930 Ward Parkway, Kansas City, MO 64114.

SYSTEM MANAGER:

The Director, Law Enforcement and Investigations (LEI), U.S. Department of Agriculture, Forest Service, 1400 Independence Avenue SW, (Mail Stop 1140), Washington, DC 20250.

AUTHORITY FOR MAINTENANCE OF THE SYSTEM:

Title 16, United States Code, section 559.

PURPOSE(S) OF THE SYSTEM:

LEIRS, formally known as LEIMARS, is a national database used by Forest Service LEI consisting of approximately 600 to 700 users dispersed throughout the nine Forest Service Regions. The information is being collected to document all criminal and civil investigations that take place or are related to crimes committed on National Forest System lands.

CATEGORIES OF INDIVIDUALS COVERED BY THE SYSTEM:

Individuals covered by the system include:

• Subjects: Individuals against whom allegations of wrongdoing have been made or who have committed a violation.

• Principals: Individuals not named as subjects, but who may be responsible for alleged violations.

• Complainants: Those who allege wrongdoing.

• Others: Those closely connected with or contacted about an investigation or law enforcement issues.

CATEGORIES OF RECORDS IN THE SYSTEM:

The system consists of files containing reports of investigation, correspondence, informal notes, statements of witnesses, names, addresses, social security numbers, dates of birth, law enforcement reports, and other available incident information to investigations conducted, enforcement actions, or violations.

RECORD SOURCE CATEGORIES:

LEIRS, formally known as LEIMARS, is primarily a criminal and civil investigation database and is used to collect information concerning criminal incidents that includes the PII related to suspects, witnesses, and victims in addition to information pertaining to the investigation of criminal activity. The LEIRS, formally known as LEIMARS, system collects the following information (that may be considered PII): First name, last name, middle initial, date of birth, home or mailing address, work address, driver's license, fishing license, hunting license, military issued ID, school issued ID, social security ID, state issued ID, height, weight, race, sex, hair color, eye color, adult/juvenile, and occupation, handwriting or an image of the signature. LEIRS, formally known as LEIMARS, is also used to document incidents that may be non-criminal in the nature, primarily pertaining to civil cases which may result in a claim for or against the government.

ROUTINE USES OF RECORDS MAINTAINED IN THE SYSTEM, INCLUDING CATEGORIES OF USERS AND PURPOSES OF SUCH USES:

In addition to those disclosures generally permitted under 5 U.S.C. 552a(b) of the Privacy Act, routine uses are defined as disclosures where information is routinely shared whether internally or externally. Below are routine uses applicable to LEIMARS:

A. Sharing information with the Department of Justice (DOJ) when: (a) USDA or any component thereof; or (b) any employee of USDA in his or her official capacity where the Department of Justice has agreed to represent the employee; or (c) the United States Government is a party to litigation or has an interest in such litigation, and, by careful review, USDA determines that the records are both relevant and necessary to the litigation and the use of such records by the Department of Justice is therefore deemed by USDA to be for a purpose that is compatible with the purpose for which USDA collected the records.

B. Sharing information with a congressional office in response to an inquiry from that congressional office made at the written request of the individual to whom the record pertains.

C. Sharing information with the National Archives and Records Administration (NARA) or other Federal government agencies pursuant to records management inspections being conducted under the authority of 44 U.S.C. 2904 and 2906.

D. Sharing information with an agency, organization, or individual for the purpose of performing audit or oversight operations as authorized by law but only such information as is necessary and relevant to such audit or oversight function.

E. Sharing information with appropriate agencies, entities, and persons when: (1) USDA suspects or has confirmed that the security or confidentiality of information in the system of records has been compromised; (2) USDA has determined that as a result of the suspected or confirmed breach, there is a risk of harm to individuals, USDA (including its information systems, programs, and operations), the Federal Government, or national security; and (3) the disclosure made to such agencies, entities, and persons is reasonably necessary to assist in connection with USDA's efforts to respond to the suspected or confirmed compromise and prevent, minimize, or remedy such harm.

F. Sharing information when a record on its face, or in conjunction with other records, indicates a violation or potential violation of law, whether civil, criminal, or regulatory in nature, and whether arising by general statute or particular program statute, or by regulation, rule, or order issued pursuant thereto, disclosure may be made to the appropriate agency, whether Federal, foreign, State, local, or tribal, or other public authority responsible for enforcing, investigating, or prosecuting such violation or charged with enforcing or implementing the statute, or rule, regulation, or order issued pursuant thereto, if the information disclosed is relevant to any enforcement, regulatory, investigative, or prosecutorial responsibility of the receiving entity. Referral to the appropriate agency, whether Federal, State, local, or foreign, charged with the responsibility of investigating or prosecuting violation of law, or of enforcing or implementing a statute, rule, regulation, or order issued pursuant thereto, of any record within the system when information available indicates a violation or potential violation of law, whether civil, criminal, or regulatory in nature.

G. Sharing information with another Federal agency or Federal entity when information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

H. To a court or adjudicative body in a proceeding when: (a) USDA or any component thereof; or (b) any employee of USDA in his or her official capacity; or (c) any employee of USDA in his or her individual capacity where USDA has agreed to represent the employee or the United States Government, is a party to litigation or has an interest in such litigation, and by careful review, USDA determines that the records are both relevant and necessary to the litigation and the use of such records is therefore deemed by USDA to be for a purpose that is compatible with the purpose for which USDA collected the records.

DISCLOSURE TO CONSUMER REPORTING AGENCIES:

None.

POLICIES AND PRACTICES FOR STORAGE OF RECORDS:

All hard copies of documents related to case investigations are stored in a room with an extra security lock. This local security serves as an additional measure to ensure that only authorized personnel can access these documents. Each USDA mission area, agency, and staff office creates and maintains proper and adequate documentation of the organization, functions, policies, decisions, procedures, and essential transactions of the Department. This documentation protects the legal and financial rights of the Government and of persons directly affected by the Department's activities (44 U.S.C. 3101). U.S.C. Title 7, Chapters 55—2204 state that the Secretary of Agriculture may conduct any survey or other information collection and employ any sampling or other statistical method that the Secretary determines is appropriate.

The Department is also authorized to obtain certain information under Section 515 of the Treasury and General Government Appropriations Act for Fiscal Year 2001 (Pub. L. 106-554, codified at 44 U.S.C. 3516) as well as Title 5, Part I, Chapter 3—301, and 5 U.S.C. 552—Sec. 552a. See also 5 U.S.C. Chapter 552; 44 U.S.C. Chapters 21, 29, 31, and 33 (Records Management); 18 U.S.C. 2071; 44 U.S.C. 3101 et seq.; 44 U.S.C. 3506; Title 7 CFR 2.37; 36 CFR Chapter 12, Subchapter B; 36 CFR part 1234, eGovernment Act of 2002 (Pub. L. 107-347, 44 U.S.C. Ch. 36); 0MB Circular A-130; NARA General Records Schedules and Forest Service Mission-specific records retention schedules approved by NARA for NARA Records Group 95.

POLICIES AND PRACTICES FOR RETRIEVABILITY OF RECORDS:

Records are maintained in accordance with Forest Service records management policy and NARA's General Records Schedule and/or NARA-approved records schedules for NARA Records Group 95. Records are maintained in categories organized by subject matter under the following file codes:

5300—Law Enforcement

5310—“Planning”

5320—“Investigation”

5330—“Law Violations”

5340—“Reports”

5350—“Procedures”

5360—“Cooperative Law Enforcement”

5370—“Suitability Requirements, Training, and Standards”

5380—“Law Enforcement Equipment”

5390—“Damage Appraisal and Claims”

POLICIES AND PRACTICES FOR RETENTION AND DISPOSAL OF RECORDS:

Records covered by this Privacy Act SORN are managed according to records retention schedules approved by NARA. Records schedules used to retain and manage records are found in Chapter 40 of Forest Service Handbook 6209.11—Records Management Handbook. This Handbook is available on the Forest Service website at https://www.fs.usda.gov/about-agency/regulations-policies. All unscheduled records, that is, records without a NARA-approved records retention schedule, are retained until a records retention schedule is approved by NARA. Once a schedule is approved, all existing records will be processed according to the requirements set forth in that schedule.

ADMINISTRATIVE, TECHNICAL, AND PHYSICAL SAFEGUARDS:

Computer files are password protected. When applicable, paper records are kept in a locked or secured office or office building and can be accessed by authorized Forest Service employees. The Department/Forest Service safeguards electronic records in this system according to applicable rules and policies, including all applicable automated systems' security and access policies. The Forest Service has imposed strict controls to minimize the risk of compromising stored information. System access is limited to individuals with appropriate clearances or permissions who need to know the information for performance of official duties.

RECORD ACCESS PROCEDURES:

Individuals are not allowed to access their information through the LEIMARS database. Although access to the system may be denied, any person, including U.S. citizens, foreign nationals, organizations, universities, businesses, and state and local governments, can file a Freedom of Information Act (FOIA) request to acquire copies of records of the system. Federal employees may not use government time or equipment when requesting information under the FOIA. Individuals seeking access to records contained in this system of records, or seeking to contest content, may submit a request in writing to the Forest Service FOIA/Privacy Act Officer (contact information at https://www.dm.usda.gov/foia/poc.htm). If an individual believes more than one Department component maintains Privacy Act records concerning him or her, the individual may submit the request to the Departmental FOIA Officer, 1400 Independence Avenue SW, South Building Room 4104, Washington, DC 20250- 0706, email: USDAFOIA@ocio.usda.gov. The request should include a daytime phone number and email. Provide as much information as possible about the subject matter of the records you are requesting. This will help facilitate the search process. If you are making a request for records about yourself, you may receive greater access by providing either a notarized statement or a statement signed under penalty of perjury stating that you are the person who you say you are. Provide your full name, date, and either: (1) Have your signature witnessed by a notary; or (2) include the following statement immediately above the signature on your request letter: “I declare under penalty of perjury that the foregoing is true and correct. Executed on [date].” Requests that do not contain the required declaration will be processed under the FOIA and, if records are found, you may not receive as much information, including information about you. If additional information is required to fulfill a Privacy Act request, you will be notified. If you want records about yourself to be released to a third party (such as a law firm or other organization requesting records on your behalf), the third party may receive greater access if they have permission from you. You will need a signed and dated statement that the Forest Service may release records pertaining to you. Include your name, date of birth, name of the person or organization to whom you want your records disclosed (where applicable), their contact information, and list of records that may be released (all emails, medical records, etc.). The person about whom the records will be released should include a statement indicating that they understand that knowingly or willingly seeking or obtaining access to records about another person under false pretenses and/or without their consent is punishable by a fine of up to $5,000.

Requests must be for access to existing records. The Forest Service FOIA Office will not create records for the purpose of responding to a FOIA or Privacy Act request. FOIA excludes Federal agencies from its definition of persons permitted to make FOIA requests (see 5 U.S.C. 552(a)(3)(A) and 5 U.S.C. 551(2)). To avoid confusion as to whether Federal employees are requesting information in their personal or official capacities, requests from Federal employees should be submitted using personal resources.

CONTESTING RECORDS PROCEDURES:

Any individual may contest information contained within a record in the system that pertains to him/her by submitting a written request to the system manager at the address above. Include the reason for contesting the record and the proposed amendment to the information with supporting documentation to show how the record is inaccurate.

NOTIFICATION PROCEDURES:

LEIRS, formally known as LEIMARS, contains information about individuals that is recorded on a Violation Notice. Individuals who receive a Violation Notice are provided with a copy at the time of the incident. The notification provides a copy of all recorded information to individuals.

Information to individuals is provided via:

• LEIRS, formally known as LEIMARS, Privacy Impact Analysis on the Department Privacy Impact Analysis website, https://www.usda.gov/home/privacy-policy/privacyimpact-assessments.

• The Federal Register for System of Records Notices and legal authorities.

• Forest Service-specific System of Records Notices are also published on the Forest Service website https://www.fs.fed.us/im/foia/pasystems.htm.

• Forms associated with Privacy Act systems are approved through the Office of Management and Budget under the Paperwork Reduction Act (also cited in the Federal Register); the forms cite the Privacy Act.

Any individual may request general information regarding this system of records or information as to whether the system contains records pertaining to him/her. All inquiries pertaining to this system should be in writing, must name the system of records as set forth in the system notice, and must contain the individual's name, telephone number, address, and email address (see specific instructions above).

EXEMPTIONS CLAIMED FOR THE SYSTEM:

This system has been exempted pursuant to 5 U.S.C. 552a(k)(2) from the requirements of 5 U.S.C. 552a(c)(3), 552a(d), 552a(e)(l), 552a(e)(3), 552a(4)(h)-(i), and 552a(f) (see 7 CFR 1.123). This exemption will only be used to maintain the efficiency and integrity of lawful investigations and to prevent access to certain law enforcement files that potentially could alert subjects of investigations that their activities are being scrutinized and thus allow them time to take measures to prevent detection of illegal action or escape prosecution. Any individual who feels that he or she has been denied any right, privilege, or benefit for which he or she would otherwise be eligible as a result of the maintenance of such material may request access to the material. Such requests should be addressed to the System Manager.

HISTORY:

Document Citation—69 FR 56031, pages 56031-56032 (2 pages), FR Doc. 04-20930 Filed 9-16-04; 8:45 a.m.

Dated: June 29, 2021.
Victoria Christiansen,
Chief, USDA Forest Service.

[FR Doc. 2021-14277 Filed 7-2-21; 8:45 am]

BILLING CODE 3411-15-P